DEPARTMENT OF COMMERCE

Foreign-Trade Zones Board

[Order No. 1361]

Approval for Expansion of Subzone 77A, Sharp Manufacturing Company of America Plant (Microwave Ovens, Computer Products, and Solar Cell Modules); Shelby County, TN

Pursuant to its authority under the Foreign-Trade Zones Act of June 18, 1934, as amended (19 U.S.C. 81a-81u), the Foreign-Trade Zones Board (the Board) adopts the following Order:

Whereas, the City of Memphis, Tennessee, grantee of FTZ 77, has requested authority on behalf of Sharp Manufacturing Company of America to expand the scope of manufacturing authority under zone procedures (multifunction office machines and solar cell modules) at Subzone 77A at the Sharp Manufacturing Company of America plant in Shelby County, Tennessee (FTZ Docket 61-2003, filed 11/6/2003);

Whereas, notice inviting public comment has been given in the Federal Register (68 FR 65246, 11/19/03);

Whereas, the Board adopts the findings and recommendation of the examiner's report, and finds that the requirements of the FTZ Act and Board's regulations are satisfied, and that the proposal is in the public interest;

Now, therefore, the Board hereby orders:

The application to expand the scope of authority under zone procedures within Subzone 77A on behalf of the Sharp Manufacturing Company of America, is approved, subject to the FTZ Act and the Board's regulations, including Section 400.28.

Signed in Washington, DC, this 6th day of December, 2004.
James J. Jochum,
Assistant Secretary of Commerce for Import Administration, Alternate Chairman, Foreign-Trade Zones Board.

Attest:

Dennis Puccinelli,
Executive Secretary.

[FR Doc. 04-27377 Filed 12-13-04; 8:45 am]

BILLING CODE 3510-DS-P